DEPARTMENT OF COMMERCE

International Trade Administration

[A-580-816]

Corrosion-Resistant Carbon Steel Flat Products from Korea: Initiation of New Shipper Antidumping Duty Review

AGENCY: Import Administration, International Trade Administration, Department of Commerce.

ACTION: Notice of Initiation of New Shipper Antidumping Duty Review.

EFFECTIVE DATE: October 3, 2003.

FOR FURTHER INFORMATION CONTACT: Paul Walker or Alex Villanueva at (202) 482-0413 or (202) 482-3208 or, respectively; Antidumping and Countervailing Duty Enforcement Group III, Import Administration, International Trade Administration, U.S. Department of Commerce, 14th Street and Constitution Avenue, N.W., Washington, D.C. 20230.

SUPPLEMENTARY INFORMATION:

Background

On August 29, 2003, the Department received a timely request from Hyundai Hysco ("Hyundai”) in accordance with 19 CFR 351.214(c), for a new shipper review of the antidumping duty order on certain corrosion-resistant carbon steel flat products from Korea, which has an August anniversary date. We received a clarification to the public version of this request on September 24, 2003. See Notice of Antidumping Duty Order: Certain Cold-Rolled Carbon Steel Flat Products from Korea, 58 FR 44159 (August 19, 1993).

Scope

The merchandise under review is corrosion-resistant carbon steel flat products, which covers flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the HTS under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this review are flat-rolled products of non-rectangular cross-section where such cross-section is achieved subsequent to the rolling process (i.e., products which have been “worked after rolling”) for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat-rolled products, which are three-layered corrosion-resistant carbon steel flat-rolled products less than 4.75 millimeters in composite thickness that consist of a carbon steel flat-rolled product clad on both sides with stainless steel in a 20%-60%-20% ratio.

These HTS item numbers are provided for convenience and U.S. Customs purposes. The written descriptions remain dispositive.

Initiation of Review

Hyundai has identified itself as a producer and exporter of corrosion-resistant carbon steel flat products. In its request of August 29, 2003, Hyundai, as required by 19 C.F.R. 351.214(b)(2)(i) and (iii)(A), certified that it did not export the subject merchandise to the United States during the period of investigation ("POI”), January 1, 1992 through June 30, 1992, and, that since the investigation was initiated on July 20, 1992, (57 FR 33488, July 29, 1992), it has never been affiliated with any exporter or producer who exported subject merchandise to the United States during the POI. Pursuant to the Department's regulations at 19 CFR 351.214(b)(2)(iv), Hyundai submitted documentation establishing the date on which it first entered the subject merchandise to the United States, the volume of that first shipment, and the date of its first sale to an unaffiliated customer in the United States. Memorandum from Paul Walker, Case Analyst through Edward C. Yang, Office Director, to the File regarding the Initiation of AD New Shipper Review: Corrosion-Resistant Carbon Steel Flat Products from Korea, dated September 30, 2003

In accordance with section 751(a)(2)(B) of the Act and 19 CFR 351.214(d)(1), we are initiating a new shipper review of the antidumping order on corrosion-resistant carbon steel flat products from Korea produced by Hyundai.¹ In accordance with 19 CFR 351.214(h)(1), we intend to issue preliminary results of this review no later than 180 days after the date of initiation.

¹ We note that the Petitioners separately requested an administrative review of Hyundai. If for any reason the Department rescinds the new shipper review of Hyundai, we will then include Hyundai in the normal administrative review.

In accordance with section 351.214(g)(1)(i)(A) of the Department's regulations, the period of review (“POR”) for a new shipper review initiated in the month immediately following the annual anniversary month is the twelve-month period preceding the anniversary month. Therefore, the POR for this new shipper is August 1, 2002 through July 31, 2003.

Concurrent with publication of this notice and in accordance with 19 CFR 351.214(e), we will instruct the U.S. Customs Service to allow, at the option of the importer, the posting of a bond or security in lieu of a cash deposit for each entry of the subject merchandise exported by the above listed company, until the completion of this review. Hyundai has certified that it both produced and exported the subject merchandise on which it based the request for a new shipper review. Therefore, we will instruct customs to limit the bonding option only to subject merchandise for which Hyundai is the producer and exporter.

The interested parties must submit applications for disclosure under administrative protective order in accordance with 19 CFR 351.305, 351.306 and 19 CFR 351.221( c)(1)(i).

This initiation and notice are in accordance with section 751(a) of the Act (19 U.S.C. 1675(a)) and 19 CFR 351.214.

Dated: September 26, 2003.
Joseph A. Spetrini,
Deputy Assistant Secretary for Import Administration, Group III.

[FR Doc. 03-25160 Filed 10-2-03; 8:45 am]

BILLING CODE 3510-DS-S